DEPARTMENT OF COMMERCE

National Oceanic and Atmospheric Administration

RIN 0648-XV062

South Atlantic Fishery Management Council; Public Meetings

AGENCY: National Marine Fisheries Service (NMFS), National Oceanic and Atmospheric Administration (NOAA), Commerce.

ACTION: Notice of a public meeting.

SUMMARY: The South Atlantic Fishery Management Council (Council) will hold a meeting of its Mackerel and Cobia Advisory Panel.

DATES: The meeting will be held on October 7, 2019, from 1 p.m. until 5 p.m. and October 8, 2019, from 8:30 a.m. until 12 p.m.

ADDRESSES:

Meeting address: The meetings will be held at the Town and County Inn, 2008 Savannah Highway, Charleston, SC 29407.

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The Mackerel Cobia Advisory Panel (AP) will receive updates on recent management actions approved by the Council relative to Coastal Migratory Pelagic species in federal waters including Framework Amendment 6 to increase Season 1 commercial king mackerel trip limits in the Atlantic Southern Zone, and the Council's emergency action request for the commercial Atlantic migratory group king mackerel fishery. The AP will also receive updates and discuss management measures relative to: Framework Amendment 8 (commercial trip limits for Atlantic migratory group king mackerel); recent closures in the commercial Atlantic migratory group Spanish mackerel fishery; proposed future port meetings for the commercial and recreational king and Spanish mackerel fisheries; citizen science projects; the Draft Environmental Impact Statement to modify boundaries and update regulations in the Florida Keys National Marine Sanctuary, and any other identified issues important to Coastal Migratory Pelagic species. The AP will provide recommendations as appropriate.

Special Accommodations

The meeting is physically accessible to people with disabilities. Requests for auxiliary aids should be directed to the Council office (see ADDRESSES) 3 days prior to the public hearings.

Note: The times and sequence specified in this agenda are subject to change.

Authority: 16 U.S.C. 1801 et seq.

Dated: September 9, 2019.
Tracey L. Thompson,
Acting Deputy Director, Office of Sustainable Fisheries, National Marine Fisheries Service.

[FR Doc. 2019-19732 Filed 9-11-19; 8:45 am]

BILLING CODE 3510-22-P